DEPARTMENT OF AGRICULTURE

Animal and Plant Health Inspection Service

9 CFR Parts 92, 93, 94, and 98

[Docket No. APHIS-2006-0106]

RIN 0579-AC33

Importation of Live Swine, Swine Semen, Pork, and Pork Products From the Czech Republic, Latvia, Lithuania, and Poland

AGENCY: Animal and Plant Health Inspection Service, USDA.

ACTION: Proposed rule.

SUMMARY: We are proposing to amend the regulations governing the importation of animals and animal products to add the Czech Republic, Latvia, Lithuania, and Poland to the region of the European Union that we recognize as low risk for classical swine fever (CSF). We are also proposing to add the Czech Republic, Latvia, Lithuania, and Poland to the list of regions we consider free from swine vesicular disease (SVD) and to add Latvia and Lithuania to the list of regions considered free from foot-and-mouth disease (FMD) and rinderpest. These proposed actions would relieve some restrictions on the importation into the United States of certain animals and animal products from those regions, while continuing to protect against the introduction of CSF, SVD, and FMD, and rinderpest into the United States.

DATES: We will consider all comments that we receive on or before April 13, 2007.

ADDRESSES: You may submit comments by either of the following methods:

Federal eRulemaking Portal: Go to http://www.regulations.gov, select “Animal and Plant Health Inspection Service” from the agency drop-down menu, then click “Submit.” In the Docket ID column, select APHIS-2006-0106 to submit or view public comments and to view supporting and related materials available electronically. Information on using Regulations.gov, including instructions for accessing documents, submitting comments, and viewing the docket after the close of the comment period, is available through the site's “User Tips” link.

• Postal Mail/Commercial Delivery: Please send four copies of your comment (an original and three copies) to Docket No. APHIS-2006-0106, Regulatory Analysis and Development, PPD, APHIS, Station 3A-03.8, 4700 River Road Unit 118, Riverdale, MD 20737-1238. Please state that your comment refers to Docket No. APHIS-2006-0106.

Reading Room: You may read any comments that we receive on this docket in our reading room. The reading room is located in room 1141 of the USDA South Building, 14th Street and Independence Avenue SW., Washington, DC. Normal reading room hours are 8 a.m. to 4:30 p.m., Monday through Friday, except holidays. To be sure someone is there to help you, please call (202) 690-2817 before coming.

Other Information: Additional information about APHIS and its programs is available on the Internet at http://www.aphis.usda.gov.

FOR FURTHER INFORMATION CONTACT: Dr. Kelly Rhodes, Regionalization and Evaluation Services, Import, Sanitary Trade Issues Team, National Center for Import and Export, VS, APHIS, 4700 River Road Unit 38, Riverdale, MD 20737-1231; (301) 734-4356.

SUPPLEMENTARY INFORMATION:

Background

The Animal and Plant Health Inspection Service (APHIS) of the United States Department of Agriculture (USDA) regulates the importation of animals and animal products into the United States to guard against the introduction of animal diseases not currently present or prevalent in this country. The regulations in 9 CFR part 94 (referred to below as the regulations) prohibit or restrict the importation of specified animals and animal products to prevent the introduction into the United States of various animal diseases, including classical swine fever (CSF), foot-and-mouth disease (FMD), and swine vesicular disease (SVD). These are dangerous and destructive communicable diseases of ruminants and swine.

In a final rule published in the Federal Register on May 19, 2006 (71 FR 29061-29072, Docket No. 02-046-2), we amended the regulations to recognize a region consisting of the 15 Member States of the European Union (EU) that comprised the EU as of April 30, 2004 (the EU-15), as a single region of low risk for CSF. The EU-15 consists of those Member States that we had recognized as a single region regarding CSF in a final rule published in the Federal Register on April 7, 2003 (68 FR 16922-16941, Docket No. 98-090-5), plus additional Member States. The May 19, 2006, final rule established a uniform set of importation requirements related to CSF for the EU-15.

Sections 94.9 and 94.10 of the regulations list regions of the world that are declared free of or low-risk for CSF. The EU-15 is currently the only region considered low-risk for CSF; §§ 94.24 and 98.38 specify restrictions necessary to mitigate the risk of introducing CSF into the United States via pork, pork products, live swine, and swine semen from the EU-15.

Section 94.12 of the regulations lists regions that are declared free of SVD. Section 94.13 of the regulations lists regions that have been determined to be free of SVD, but that are subject to certain restrictions because of their proximity to or trading relationships with SVD-affected regions.

Section 94.1 of the regulations lists regions of the world that are declared free of rinderpest or free of both rinderpest and FMD. Section 94.11 of the regulations lists regions that have been determined to be free of rinderpest and FMD, but that are subject to certain restrictions because of their proximity to or trading relationships with rinderpest-or FMD-affected regions.

On May 1, 2004, the Czech Republic, Latvia, Lithuania, and Poland, along with six other countries, became new Member States of the EU. As part of the accession process, these new EU Member States adopted the legislation of the European Commission (EC) ¹ regarding animal health, welfare, and identification, including legislation pertaining to CSF, FMD, and SVD. This legislation became the basis for new standard operating procedures for domestic animal health matters in the Czech Republic, Latvia, Lithuania, and Poland by the time of their accession. The Czech Republic, Latvia, Lithuania, and Poland also adopted the harmonized EC legislation regarding sanitary measures applicable to import and trade in live animals and animal products.

¹

The EC is the EU institution responsible for representing the EU as a whole. It proposes legislation, policies, and programs of acton and implements decisions of the EU Parliament and Council.

In 2003, the Governments of Lithuania and Poland requested that APHIS evaluate their animal health status with respect to CSF and SVD and provided information in support of these requests in accordance with 9 CFR part 92, “Importation of Animals and Animal Products; Procedures for Requesting Recognition of Regions.” In addition, the Government of Lithuania requested that APHIS evaluate Lithuania's animal health status with respect to FMD. In 2004 and 2005, the Governments of Latvia and the Czech Republic also requested that APHIS evaluate their animal health status with respect to CSF and SVD. In addition, the Government of Latvia requested that APHIS evaluate Latvia's animal health status with respect to FMD. Because rinderpest has not been diagnosed in Latvia since 1921 and has never been reported in Lithuania, we are proposing to recognize these countries as free of rinderpest.

As part of our evaluation of their disease status, APHIS identified the smallest administrative units (AUs) within each of these EU Member States that we would consider “regions” in the event of future animal disease outbreaks. See the discussion of those AUs under the section entitled “Administrative Units.”

Our determinations concerning these requests with regard to CSF and SVD in the Czech Republic, Latvia, Lithuania, and Poland, and FMD in Latvia and Lithuania are set forth below.

Summary of Proposed Changes

In this document, we are proposing to add the Czech Republic, Latvia, Lithuania, and Poland to the region of the EU (currently referred to in the regulations as the EU-15) that we currently recognize as a low-risk region for CSF and from which breeding swine, swine semen, and pork and pork products may be imported into the United States under certain conditions. In order to provide flexibility in the event that additional Member States may be added to this region in the future, we would amend the regulations to refer to this region as the “APHIS-defined EU CSF region.”

We are also proposing to add the Czech Republic, Latvia, Lithuania, and Poland to the list of regions recognized as free of SVD, and to the list of SVD-free regions whose exports of pork and pork products to the United States are subject to certain restrictions to prevent the introduction of SVD into this country.

Additionally, we are proposing to add Latvia and Lithuania to the list of regions recognized as free of FMD and rinderpest. We are also proposing to add Latvia and Lithuania to the list of FMD and rinderpest-free regions whose exports of ruminant and swine meat and products to the United States are subject to certain restrictions to prevent the introduction of FMD and rinderpest into this country.

Risk Analyses

APHIS conducted risk analyses to examine the risk of introducing CSF or SVD from the importation of swine and swine products from the Czech Republic, Latvia, Lithuania, and Poland and the risk of introducing FMD from the importation of swine, ruminants, and swine and ruminant products from Latvia and Lithuania. These risk analyses were completed early in 2006 and may be viewed on the Regulations.gov Web site or in our reading room. (Instructions for accessing Regulations.gov and information on the location and hours of the reading room are provided under the heading ADDRESSES at the beginning of this proposed rule.) The risk analyses may also be viewed at http://www.aphis.usda.gov/vs/ncie/reg-request.html by following the link for “Information previously submitted by Regions requesting export approval and their supporting documentation.” In the following paragraphs, we summarize our findings for each of the 11 factors set out in our procedures for requesting recognition of regions in 9 CFR 92.2 and summarize our risk considerations of these findings following our discussion of the factors.

Authority, Organization, and Veterinary Infrastructure

As stated above, the Czech Republic, Latvia, Lithuania, and Poland adopted the legislation of the EC regarding animal health, welfare, and identification, as well as sanitary measures applicable to import and trade in live animals and animal products. At the time of accession, Commission Decisions and Regulations concerning CSF, SVD, and FMD became directly applicable in the new EU Member States, whereas Council Directives were implemented in national legislation. During APHIS site visits, it appeared that official veterinarians of each country were familiar with and able to effectively implement the provisions of pertinent EC and national legislation.

APHIS concluded that the official veterinary services of these new EU Member States have sufficient legal authority, personnel, and financial resources to carry out animal health activities quickly and efficiently. Regular training is conducted for official veterinarians. In addition, all offices visited by APHIS site visit teams were generally in good condition, with some undergoing renovations, and were outfitted with computers with both Internet and Intranet connections. The official veterinary services are hierarchically organized and appear to have clear lines of command and reporting, with sufficient autonomy at the local level to carry out the tasks assigned. Internal and external auditing practices are adequate to ensure compliance with the provisions of pertinent animal health legislation.

Disease History

CSF: CSF was last reported in domestic swine in the Czech Republic in 1997, in Latvia in 1996, in Lithuania in 1992, and in Poland in 1994. No CSF outbreaks have occurred in wild boar in recent years in Latvia, Lithuania, or Poland. CSF virus was last detected in wild boar in the Czech Republic in November 1999. Serologic surveillance indicates that the virus is present in segments of the wild boar population in the Czech Republic along its borders with Austria and Slovakia, albeit at very low and decreasing levels.

In addition, veterinary officials indicated that most small swine producers keep pigs indoors, which limits potential exposure to CSF in wild boar populations, and that most of the larger farms are confinement operations with restricted access. Biosecurity practices on large swine confinement operations, from which exports to the United States from the Czech Republic would most likely be derived, are sufficient to prevent direct or indirect exposure of domestic swine to wild boar.

SVD: SVD has never been reported in the Czech Republic, Latvia, or Lithuania. The last reported case of SVD in Poland occurred in 1972 in domestic swine (SVD has never been reported in wild boar in Poland).

FMD: FMD was last reported in Latvia and Lithuania in 1987 and 1982, respectively.

Disease Status of Adjacent Regions

CSF: Latvia, Lithuania, and Poland all share land borders with non-EU countries that APHIS considers affected with CSF, namely Russia, Belarus, and/or Ukraine. (APHIS considers all countries affected until the disease status of a specific country is evaluated at the request of that foreign country and we determine otherwise. The governments of Russia, Belarus, and Ukraine have not requested such evaluation.) Belarus last reported a CSF outbreak in August 1995 and Ukraine in July 2001; CSF is endemic in parts of Russia and outbreaks continue to occur.

The Czech Republic and Poland also border other EU Member States such as Germany, Estonia, and Slovakia. Germany is part of the EU region that APHIS considers low risk for CSF under §§ 94.9 and 94.10, but CSF is endemic in segments of its wild boar population. CSF is also endemic in wild boar in regions of Slovakia that border the Czech Republic. APHIS is currently evaluating the CSF status of Slovakia and Estonia (which borders Latvia).

Due to the proximity of affected or potentially affected regions, the risk analyses concluded that the potential exists for introduction of CSF into the Czech Republic, Latvia, Lithuania, or Poland via wild boar, incoming vehicular or human traffic, smuggled swine products, or other routes discussed below.

SVD: APHIS considers SVD to exist in Russia, Belarus, and Ukraine since we have not evaluated their status with regard to this disease. However, SVD has never been reported in Russia or Belarus, and was last reported in Ukraine in 1977. The Czech Republic, Latvia, and Poland each border either Slovakia or Estonia, which APHIS is currently evaluating for SVD status, but which have never reported an SVD outbreak. The Czech Republic, Latvia, Lithuania, and Poland also share borders with one another, with each bordering at least one of the other three. The risk analyses concluded that the likelihood of introduction of SVD into these four Member States from neighboring regions is low.

FMD: Latvia and Lithuania border Russia and Belarus, which APHIS does not consider free of FMD. Belarus last reported an FMD outbreak in 1982; sporadic FMD outbreaks continue to occur in Russia. Latvia and Lithuania also border each other. Due to the proximity of affected or potentially affected regions, the risk analyses concluded that the potential exists for introduction of FMD into Latvia or Lithuania via wild animals, incoming vehicular or human traffic, smuggled animal products, or other routes discussed below.

Degree of Separation From Adjacent Regions

The Czech Republic is entirely surrounded by other EU Member States. In addition, although parts of Latvia, Lithuania, and Poland border the Baltic Sea, they are not separated from regions of higher risk by a uniform physical barrier, therefore few impediments exist to introduction of CSF, SVD, or FMD via natural movement of wild animals or human traffic.

The primary wild animals within these four EU Member States and neighboring countries that are susceptible to CSF and SVD are wild boar. In addition, wild boar and ruminants such as deer are also susceptible to FMD. These species are not considered to be migratory in nature, but individual animals are known to travel substantial distances in search of food, during mating season, or in response to hunting or other habitat disruptions.

Extent of an Active Disease Control Program

None of the four countries have active disease control programs in place for CSF or SVD, and Latvia and Lithuania do not have active disease control programs in place for FMD, since these diseases have not been reported for many years. Surveillance for these diseases is discussed in more detail below.

Vaccination

The last vaccination against CSF occurred in the Czech Republic in 1992, in Latvia in 1998, in Lithuania in 2000, and in Poland in 1996. Vaccination against CSF is now prohibited in all four countries, although official contingency plans allow for emergency vaccination against CSF. None of these countries has ever vaccinated against SVD and such vaccination is also now prohibited. In addition, vaccination against FMD is prohibited in Latvia and Lithuania, although as with CSF, the official contingency plans for FMD for both countries allow for emergency vaccination if sanctioned by the EC.

Movement Control From Higher Risk Regions

Some forms of CSF, SVD, and FMD are difficult to detect in live animals or on post-mortem examination without laboratory testing, and in some instances detection may be delayed due to deficiencies in active surveillance or diagnostic testing capabilities. Any such delay in detection of an outbreak could increase the export risk to the United States. Consequently, the risk analyses examined potential pathways for disease introduction into the Czech Republic, Latvia, Lithuania, and Poland such as importation and intra-Community trade in live animals and animal products, vehicular and human traffic, and commodities for personal consumption.

Import controls: Import of live animals and animal products into the Czech Republic, Latvia, Lithuania, and Poland from non-EU countries occurs at certain road, rail, air, and/or sea ports through a border inspection post (BIP) that has been approved by the EC. The EC conducts a rigorous inspection of each BIP prior to approval and carries out regular audits to monitor the efficacy of sanitary controls. Each BIP visited by APHIS appeared sufficiently able to keep up with required levels of inspection.

Swine, ruminants, and derived products such as meat, meat products, and genetic material are harmonized commodities under EC legislation, which means that the requirements for import from non-EU countries are standardized across all EU Member States. Binding EC legislation lists the non-EU countries, and establishments within those countries, that are approved for export of certain commodities to the EU. Slaughterhouses, cutting plants, semen collection centers, and other exporting establishments are subject to inspection prior to approval. Veterinary certificates required for export to the EU outline comprehensive animal health and testing requirements and must be endorsed by an official veterinarian of the exporting country.

APHIS recognizes all of the countries approved for export of live swine and swine semen to the EU as free of SVD (although some are subject to the restrictions specified in § 94.13) and all but Switzerland as free of CSF. APHIS also considers these countries free of FMD, although some are subject to the restrictions in § 94.11. However, although import practices in the Czech Republic, Latvia, Lithuania, and Poland have largely been protective with regard to CSF, SVD, and FMD, EC legislation allows EU Member States to import fresh pork and pork products derived from swine from several regions that APHIS has not evaluated and therefore regards as affected with these diseases. EU Member States may also import bovine embryos and meat and meat products from both domestic and wild ruminants from regions that APHIS considers affected with FMD.

Veterinary inspectors at the entry BIP check that the documentation accompanying imported commodities is in order, including appropriate health certificates and other movement control documents, and that the shipment is properly identified and the identification matches the documentation. Veterinary inspectors also physically examine and sample a percentage of incoming shipments as prescribed by EC legislation.

The risk analyses concluded EC legislation imposes less stringent restrictions on sourcing of imported ruminants and swine than do APHIS requirements, resulting in some risk of introducing CSF, SVD, or FMD into the Czech Republic, Latvia, Lithuania, Poland, or other EU Member States via imported animals or animal products. However, this risk is substantially mitigated by factors such as veterinary inspection of live animals prior to shipment, approval of establishments for export of animal products, certification of disease status by an official veterinarian, and veterinary inspection at the point of entry into the EU.

Trade controls: As EU Member States, the Czech Republic, Latvia, Lithuania, and Poland may engage in intra-Community trade with other Member States as governed by EC legislation that was transposed into national legislation prior to accession. Live animals and animal products must be accompanied by an appropriate health certificate signed by an official veterinarian of the country of origin. Intra-Community trade in swine and swine products, including semen and embryos, from CSF or SVD affected regions of EU Member States is prohibited. There are no trade restrictions based on FMD since there are currently no outbreaks reported in the EU.

Establishments such as slaughterhouses, cutting plants, milk processing plants, and semen collection centers must be approved by the Member State in which they reside according to criteria similar to those for exporting establishments in non-EU countries. The EC and the official veterinary services of the Member State conduct periodic audits to monitor compliance with approval criteria and certification requirements. The risk analyses concluded that the likelihood of introducing SVD or FMD via intra-Community trade was low and, although the likelihood of introducing CSF was slightly higher, this risk was largely mitigated by the factors described above.

Veterinary control of passenger traffic: In the Czech Republic, Latvia, Lithuania, and Poland, the majority of border crossings from non-EU countries are controlled by the Customs Service, without official veterinary control. Posters are prominently displayed at border crossings to promote public awareness of prohibited meat, milk, and meat and milk products. However, the EC permits personal consignments of products that could carry live CSF, SVD, and/or FMD virus from countries that APHIS has not evaluated and regards as affected with these diseases. In some instances, there is considerable local passenger and commercial traffic to and from neighboring non-EU countries that APHIS does not consider free of CSF, SVD, and/or FMD. Veterinary officials indicated that individuals attempting to cross the border with agricultural products at a checkpoint without veterinary inspection are redirected to a BIP or the products are confiscated. However, the percentage of incoming traffic that is inspected for prohibited agricultural commodities varies among border crossings. The risk analyses concluded that, although the likelihood of introduction of such commodities by this route is relatively high, existing production and biosecurity measures substantially reduce the associated export risk to the United States.

Livestock Demographics

As stated above, the Czech Republic, Latvia, Lithuania, and Poland have adopted the EC legislation with regard to animal identification. Each country has in place or is implementing herd registration and animal identification plans for ruminants and swine that include movement tracking through a central computerized database. Health certificates and/or a movement authorization form are required for internal movement of ruminants and swine.

Small swine holdings predominate in each of these countries, and there is considerable overlap in distribution with wild boar, although veterinary authorities indicated that the majority of pigs are raised indoors. Production and slaughter systems in each country are such that large confinement operations (up to 30,000 pigs) are the most likely source of swine and swine products for export. APHIS site visit teams noted biosecurity measures on the confinement operations that would effectively prevent direct or indirect contact with wild boar, and limit the likelihood of CSF, SVD, or FMD introduction by other routes. The risk analyses concluded that commercial production and biosecurity practices in these countries serve to mitigate potential export risk to the United States.

Cattle are distributed throughout Latvia and Lithuania; agriculture in these two countries has traditionally included dairy-beef husbandry. There are few sheep or goats and these are generally distributed in small numbers on individual farms. Biosecurity measures on ruminant operations are generally not sufficient to prevent direct and/or indirect contact with wildlife or contact with live virus on clothing or vehicles. However, exports to the United States will likely be derived from the larger cattle operations, which are closely monitored by the official veterinary services.

Disease Surveillance

CSF: The Czech Republic, Latvia, Lithuania, and Poland all have national surveillance programs in place for CSF in domestic swine and wild boar. Active surveillance is primarily based on serology for antibodies to the CSF virus, as is common throughout the world. Since antibodies occur late in CSF infection, serological surveillance would likely miss an early infection (e.g., in the first 21 days). In each country, training and national simulation exercises aid in passive surveillance for CSF by developing and maintaining the ability to quickly detect these diseases. Passive surveillance is likely sufficient to detect overt clinical signs of CSF, but detection may be delayed in the case of moderate or low virulence strains. In some instances, lack of incentive for hunters to sample wild boar and underreporting of wild boar found dead may also hinder detection.

SVD: The Czech Republic, Latvia, Lithuania, and Poland each conduct serological surveillance for SVD in domestic swine at a considerably lower level than for CSF, and rely more on passive surveillance for this disease. Consequently, detection may be delayed in the absence of overt clinical signs, although serological surveillance would eventually detect the historical presence of the disease.

FMD: Lithuania conducts serological surveillance for FMD in cattle, domestic swine, wild boar, and deer at a relatively low level. Surveillance is not routinely conducted in reservoir populations such as sheep and goats. Latvia conducted serological surveillance for FMD in cattle and domestic swine, although not small ruminants or susceptible wild animals, through 2003; active surveillance is no longer conducted. Both countries rely heavily on passive surveillance for FMD, which may delay detection in the absence of overt clinical signs.

Diagnostic Capabilities

The Czech Republic, Latvia, Lithuania, and Poland all have established accredited national reference laboratories (NRL) for animal diseases, including CSF, SVD, and FMD. Overall, the laboratories are well organized and equipped, with experienced scientific and technical staff. Standard operating procedures and quality control measures are in place throughout. Laboratory biosecurity practices are adequate to prevent the escape of live virus.

CSF: In each country, the NRL provides a full range of diagnostic tests for the diagnosis and confirmation of CSF. Tests have all been validated and include well-regarded commercial test kits used in many countries and tests developed in-house that are performed using standard methodology. An APHIS site visit team expressed concern regarding the sensitivity of the ELISA test used for screening for CSF in Lithuania. Laboratory officials indicated they are addressing this issue by phasing in more sensitive tests for the detection of CSF and are also working to expand the diagnostic capabilities for SVD and FMD. The risk analyses concluded that an index case of CSF would be diagnosed by these laboratories if proper samples were submitted.

SVD and FMD: The NRL of each country provides a moderate spectrum of diagnostic testing for SVD and, in Latvia and Lithuania, for FMD as well. The risk analyses concluded that each NRL has the competence to make a presumptive diagnosis of SVD or FMD; however, diagnostic capabilities are limited by reliance on serology, and samples would be sent to the reference laboratory in Pirbright, UK, for confirmatory testing, which would result in a slight delay in confirming an outbreak.

Emergency Response Capacity

The Czech Republic, Latvia, Lithuania, and Poland have contingency plans in place and supporting legislation to control and eradicate CSF, SVD, and/or FMD outbreaks. These contingency plans conform closely to the provisions of EC legislation. The EC has a “stamping out” policy with regard to CSF, SVD, and FMD. Eradication is carried out by compulsory destruction of all animals on the affected premises with burial or incineration of the carcasses. All live animals, animal products, and genetic material moved off of an affected premises during the time between disease introduction and detection of the outbreak must be traced and destroyed. Additionally, protection zones of at least a 3-kilometer radius and surveillance zones of at least a 10-kilometer radius from the affected premises, respectively, are established, and the movement of live animals, animal products, and genetic material is suspended until the restrictions are lifted.

Release Assessment Conclusions

APHIS considers the potential for introduction of CSF, SVD, and/or FMD into the Czech Republic, Latvia, Lithuania, or Poland to be greater than the potential for the introduction of CSF, SVD, and/or FMD from the Czech Republic, Latvia, Lithuania and Poland into the United States. This is due to the fact that these countries share common land borders with several regions APHIS does not consider to be free of these diseases, because they engage in free trade with other EU Member States that import live animals or animal commodities from such regions, and because, under harmonized EC legislation, they could directly import live swine or swine commodities from such regions.

Following our analysis, we have concluded that the risk profiles for the Czech Republic, Latvia, Lithuania, and Poland with regard to CSF are equivalent in CSF risk to the EU-15. The EU-15 is considered a low-risk region for CSF in §§ 94.9 and 94.10 and is subject to the import restrictions specified in § 94.24 for live swine, pork, and pork products, and § 98.38 for swine semen. Therefore, we are proposing to include the Czech Republic, Latvia, Lithuania, and Poland along with the other countries that comprise the low-risk region for CSF currently referred to in our regulations as the EU-15. As noted previously, to reflect the addition of those four countries to that region, and to accommodate possible future additions to that region, we would amend the regulations by replacing references to the “EU-15” with references to the “APHIS-defined EU CSF region” wherever they appear in parts 93, 94, and 98.

We are proposing to recognize the Czech Republic, Latvia, Lithuania, and Poland as free of SVD and to recognize Latvia and Lithuania as free of FMD. In addition to proposing to include the Czech Republic, Latvia, Lithuania, and Poland in the list in § 94.12(a) of regions declared free of SVD, and Latvia and Lithuania to the list in § 94.1(a)(2) of regions declared free of both rinderpest and FMD, we are also proposing to add the Czech Republic, Latvia, Lithuania, and Poland to the list in § 94.13 of regions declared free of SVD whose exports of pork and pork products are also subject to restrictions and to add Latvia and Lithuania to the list in § 94.11(a) of regions declared free of rinderpest and FMD whose exports of meat and other animal products to the United States are nevertheless subject to certain restrictions.

Administrative Units

On October 28, 1997, we published in the Federal Register a final rule (62 FR 56000-56026, Docket No. 94-106-9) and a policy statement (62 FR 56027-56033, Docket No. 94-106-8) that established procedures for recognizing regions and levels of risk for the purpose of regulating the importation of animals and animal products. With the establishment of those procedures, APHIS can consider requests to allow importations from regions based on levels of risk, as well as to recognize entire countries free of a disease. In subsequent rules, we identified the smallest administrative jurisdictions in the EU-15 that we would use to regionalize those Member States in the event of future animal disease outbreaks. As discussed in those documents, we believe that each of those jurisdictions is the smallest that can be demonstrated to have effective oversight of normal animal movements into, out of, and within that Member State, and that, in association with national authorities, if necessary, has effective control over animal movements and animal diseases locally.

We have identified the following AUs for each country:Czech Republic-region, Latvia-district, Lithuania-county, Poland-district.

Further information on each AU and why we chose it is available in the risk analysis for each Member State. If we receive no substantive comments regarding our identification of AUs for these Member States and we finalize this proposed rule, following the effective date of the final rule, these AUs will be used to regionalize those Member States in the event of future animal disease outbreaks.

Miscellaneous

We are also proposing to revise the definition of European Union in § 92.1 to update its list of EU Member States. There are currently 25 Member States of the EU, 10 more than when that definition was added to the regulations. In part 92, the European Union is referred to in § 92.3, which states: “Whenever the European Commission (EC) establishes a quarantine for a disease in the European Union in a region the Animal and Plant Health Inspection Service recognizes as one in which the disease is not known to exist and the EC imposes prohibitions or other restrictions on the movement of animals or animal products from the quarantined area in the European Union, such animals and animal products are prohibited importation into the United States.” Therefore, it is necessary to update the definition of European Union to ensure that this provision applies to all EU Member States.

We are further proposing to remove § 94.1a, “Criteria for determining the separate status of a territory or possession as to rinderpest and foot-and-mouth disease,” from the regulations. Those provisions, which were established in 1974, were rendered unnecessary when we added the current provisions for the recognition of regions in 9 CFR part 92.

Finally, in § 98.38(f), we are proposing to remove a reference to the Office International des Epizooties and to refer instead to the World Organization for Animal Health, as this is the current, internationally recognized name for that organization.

Executive Order 12866 and Regulatory Flexibility Act

This proposed rule has been reviewed under Executive Order 12866. The rule has been determined to be not significant for the purposes of Executive Order 12866 and, therefore, has not been reviewed by the Office of Management and Budget.

We are proposing to amend the regulations governing the importation of animals and animal products to add the Czech Republic, Latvia, Lithuania, and Poland to the region of the European Union that we recognize as low risk for CSF. We are also proposing to add the Czech Republic, Latvia, Lithuania, and Poland to the list of regions we consider free from SVD and to add Latvia and Lithuania to the list of regions considered free from FMD and rinderpest.

The U.S. Swine Industry

The U.S. swine industry plays an important role in the U.S. economy. Cash receipts from marketing meat animals were about $15 billion in 2005 (the average between 2001 and 2005 was $12.4 billion).² Additionally, swine and related product exports generated over $2.1 billion in sales that year. Other agricultural and nonagricultural sectors are dependent on the swine industry for their economic activity. At present, international trade in U.S. livestock proceeds without CSF or SVD related restrictions. Maintaining such favorable conditions depends in part on continued aggressive efforts to prevent transmission of foreign diseases to U.S. swine.

² USDA/NASS, Meat Animal Production, Disposition, and Income: 2005 Summary, April 2006.

As shown in table 1, U.S. pork production increased from 7,764,000 metric tons (MT) in 1996 to 9,392,000 MT in 2005, an annual growth rate of about 2.1 percent. Similarly, consumption increased from 7,619 MT to 8,671 MT. During the same period, U.S. exports increased from 440,000 MT to 1,207,000 MT, by far outpacing imports. Net exports increased from 159,000 MT to 743,000 MT.

Table 1.—U.S. Pork Production, Consumption, Price, Exports, and Imports, 1996-2005
Year | Production (1,000 MT) | Consumption (1,000 MT) | Price per MT | Exports (1,000 MT) | Imports (1,000 MT) | Net exports (1,000 MT)
1996 | 7,764 | 7,619 | $1,596 | 440 | 281 | 159
1997 | 7,835 | 7,631 | 1,562 | 473 | 288 | 185
1998 | 8,623 | 8,305 | 1,170 | 558 | 320 | 238
1999 | 8,758 | 8,594 | 1,178 | 582 | 375 | 207
2000 | 8,596 | 8,455 | 1,413 | 584 | 438 | 146
2001 | 8,691 | 8,389 | 1,473 | 707 | 431 | 276
2002 | 8,929 | 8,685 | 1,179 | 731 | 486 | 245
2003 | 9,056 | 8,816 | 1,298 | 779 | 538 | 241
2004 | 9,312 | 8,817 | 1,621 | 989 | 499 | 490
2005 | 9,392 | 8,671 | 1,562 | 1,207 | 464 | 743
5-year average (2001-2005) | 9,076 | 8,676 | 1,427 | 883 | 484 | 399
Sources: USDA/FAS, PS&D Online, 1996-2005, http://www.fas.usda.gov/psdonline/psdquery.aspx; prices, reported as $/100 pounds for yearly pork carcass cut-out values, are converted to dollars per metric ton, and are taken from Red Meat Yearbook (94006), http://usda.manlib.cornell.edu/ers/94006/wholesaleprices.xls; net exports are calculated as the difference between exports and imports for each year.

The Swine Industry in the Czech Republic, Latvia, Lithuania, and Poland

The four countries (the Czech Republic, Latvia, Lithuania, and Poland) together produced an average of 2.522 million MT of pig meat between 2001 and 2005. They are net importers of pork, which is the focus of this analysis. They had a 5-year (2001-2005) average level of pork exports of 130,030 MT and an average level of imports of 152,954 MT, yielding an average net export of a negative 22,823 MT. The Czech Republic and Poland accounted for 95 percent of production and export of the above total.

Potential Costs of Classical Swine Fever, Swine Vesicular Disease, and Foot and Mouth Disease

CSF, also known as hog cholera or swine plague, is a highly contagious and often fatal disease of pigs. Young animals are more severely affected than older animals. Mortality rates may reach up to 90 percent among young pigs. SVD is less severe and does not usually cause death. The overall cost of control and eradication depends on the mitigation methods used to control and eradicate the two diseases.

Potential costs include disease control measures such as imposing quarantine measures and movement controls, indemnity payments, vaccination costs, surveillance, and laboratory testing. CSF was eradicated from the United States in 1976 at a cost of about $550 million in 2006 dollars. Several EU countries experienced small-and-large scale CSF outbreaks between 1990 and 1997 and suffered heavy economic losses. One large outbreak cost producers $917.6 million, the national governments $296.9 million, and the EU $1,040.6 million in 2006 dollars. The cost of a small scale outbreak was $14 million and the cost of the medium-scale outbreak was $268.8 million.³ The above costs are direct costs of disease outbreaks and do not include indirect costs such as losses caused by trade restrictions. Little information exists on the cost of control and eradication of SVD in a previously free region.

³ Saatkamp, H. W., P. B. M. Berentsen et al. “Economic aspects of the control of classical swine fever outbreaks in the European Union,” Vet Microbiology 73 (2000): 221-237; Stegeman, A., A. Elbers et al., “The 1997-98 epidemic of classical swine fever in the Netherlands,” Vet Microbiology, 73 (2000): 183-196.

FMD is a contagious viral disease that affects cloven-hoofed animals. Cattle, pigs, sheep and goats are highly susceptible to FMD. Although the death rates are low, it has serious lasting negative effects on infected animals that survive the disease. It causes decreased milk production, decreased pregnancy rates, weight loss, and lameness. In addition to these losses, an FMD outbreak can lead to economic sanctions, including the loss of export markets. Any outbreak of FMD in the United States could result in a loss of billions of dollars for agriculture and related industries as indicated by the most recent FMD outbreak in the United Kingdom (UK). According to the World Organization for Animal Health (OIE), over 6 million cattle, sheep, swine, and goats were slaughtered to stop the spread of the disease and the epidemic is estimated to have cost the UK economy about $12.9 billion.⁴

⁴ D. Thompson, P. Muriel, D. Russell, P. Osborne, A. Bromley, M. Rowland, S. Creigh-Tyte, and C. Brown, “Economic losses of foot and mouth disease outbreak in the U.K,” Rev. sci. tech. int. epiz., 21 (2002): 675-687.

Impact of Potential Pork Imports

In this section, we estimate the impact of pork imports from the Czech Republic, Latvia, Lithuania, and Poland on U.S. production, consumption, and prices using a net trade welfare model.⁵ The baseline data used are as shown in the last row of table 1. The demand and supply elasticities used are -0.86 and 1, respectively.⁶

⁵ The data used were obtained from Foreign Agricultural Service (FAS), Production, Supply and Distribution database (http://www.fas.usda.gov/psdonline/psdquery.aspx;) USDA/ERS, Red Meat Yearbook (94006) (http://usda.mannlib.cornell.edu/usda/ers//wholesaleprices.xls); The Global Trade Atlas: Global Trade Information Services, Inc., country Edition, June 2006; and UN/FAO, FAO stat data (http://faostat.fao.org).

⁶ John Sullivan, John Wainio, Vernon Roningen, A Database for Trade Liberalization Studies, #AGES89-12, March 1989.

Based on the four countries' combined average annual global exports of 130,130 MT (2001-2005), we model three potential levels of pork exports to the United States from the Czech Republic, Latvia, Lithuania, and Poland: (1) An amount proportional to the percentage of the EU-15's pork exports sent to the United States (1.87 percent); (2) an amount proportional to the percentage of Denmark's ⁷ pork exports sent to the United States (3.99 percent); and (3) an amount equal to 10 percent of the global pork exports by the four countries. Amounts of pork shipped to the United States under the three scenarios would be 2,433 MT, 5,192 MT, and 13,013 MT.

⁷ Exports from Denmark to the United States are used as an upper range estimate of possible exports from these countries. Denmark's pork industry is export oriented, and it is the second largest supplier of pork products to the United States, after Canada. Using the proportion of its global pork exports that are shipped to the United States as an estimate of possible imports from the four countries likely overstates potential shipments to the United States from these countries.

Table 2.—The Impact of Pork Imports From the Czech Republic, Latvia, Lithuania, and Poland on the United States Economy
| Import Scenario 1 | Import Scenario 2 | Import Scenario 3
Assumed pork imports, MT | ¹ 2,433 | ² 5,192 | ³ 13,013
Change in U.S. consumption, MT | 1,160 | 2,475 | 6,202
Change in U.S. production, MT | −1,273 | −2,717 | −6,811
Change in wholesale price of pork, dollars per MT | −$0.22 | −$0.47 | −$1.19
Change in consumer welfare | $1,924,230 | $4,106,610 | $10,294,830
Change in producer welfare | −$1,817,020 | −$3,877,160 | −$9,715,120
Annual net benefit | $107,210 | $229,450 | $579,710
Note: Welfare and benefit are used interchangeably. The baseline data used is a 5-year annual average for production, consumption, price, exports and imports as reported in the last row of table 1. The demand and supply elasticities used are −0.86 and 1, respectively (John Sullivan, John Wainio, Vernon Roningen, A Database for Trade Liberalization Studies, #AGES89-12, March 1989).
¹ Calculated by multiplying the total global exports of the Czech Republic, Latvia, Lithuania, and Poland, 130,130 MT, by the proportion (1.87 percent) of EU-15's global export sent to the U.S. EU-15 countries including Denmark exported 50,742 MT to the United States from their global exports of 2,719,698 MT.
² Calculated by multiplying total global exports of the Czech Republic, Latvia, Lithuania, and Poland by the proportion (3.99 percent) of Denmark exports sent to the United States, 43,037 MT out of 1,077,986 MT.
³ Calculated by multiplying total global exports of the Czech Republic, Latvia, Lithuania, and Poland by 10 percent.

Table 2 presents the changes resulting from the assumed U.S. pork imports from the Czech Republic, Latvia, Lithuania, and Poland. These include annual changes in U.S. consumption, production, wholesale price, consumer welfare, producer welfare, and net welfare. Our medium level of pork imports of 5,192 MT (import scenario 2, assuming pork imports proportional to those received from Denmark) would result in a decline of $0.47 per metric ton in the wholesale price of pork and a fall in U.S. production of 2,717 MT. Consumption would increase by 2,475 MT. Producer welfare would decline by $3.9 million and consumer welfare would increase by $4.1 million, yielding an annual net benefit of about $230,000.

Import scenario 1 presents impacts assuming a more likely level of pork imports (proportional to those received from the EU-15). In this case, price would decrease by $0.22 per metric ton, production would decline by 1,273 MT, and consumption would increase by 1,160 MT. Consumer welfare would increase by $1.9 million and producer welfare would decline by $1.8 million. The annual net benefit would be about $107,000.

Finally, import scenario 3 presents a case of expanded trade, with pork imports by the United States assumed to equal 10 percent of global exports by the four countries. The wholesale price of pork would decline by $1.19 per metric ton, production would decline by 6,811 MT, and consumption would increase by 6,202 MT. Consumer welfare would increase by $10.3 million, while producer welfare would decline by $9.7 million. The annual net benefit would be about $580,000.

In all cases consumer welfare gains would outweigh producer welfare losses. The decline in producer welfare, even in the last scenario, would represent less than one-tenth of 1 percent of cash receipts received from the sale of domestic hogs and pork products.⁸ Thus, our analysis indicates that U.S. entities are unlikely to be significantly affected by this rule.

⁸ $9.7 million divided by $12.4 billion equals 0.08 percent.

The Small Business Administration (SBA) has established guidelines for determining which types of firms are to be considered small under the Regulatory Flexibility Act. This rule could affect importers of live animals or animal products and swine operations with sales.

Meat processing entities (NAICS 311612) and meat and meat product merchant wholesalers (NAICS 424470) may be affected by this rule. Under SBA standards, meat processing establishments with no more than 500 employees and meat and meat product wholesalers with no more than 100 employees are considered small. In 2002, there were 1,335 companies in the United States that processed and sold meat. More than 97 percent of these establishments are considered to be small entities and had average sales of $15.4 million, while large meat processors had average sales of $188 million. In 2002, there were 2,535 meat and meat product wholesalers in the United States. Of these establishments, 2,456 (97 percent) employed not more than 100 employees and are, thus, considered small by SBA standards. Small wholesalers had average sales of $9.3 million, while large entities had average sales of $131 million.⁹

⁹ U.S. Census Bureau, 2002 Economic Census: Manufacturing—Industries Series, Wholesale Trade—Subject Series and Transportation and Warehousing—Subject Series, issued August 2006; and SBA, Small business Size Standards matched to North American Industry Classification System 2002, effective July 2006.

Other entities that could theoretically be affected include refrigerated long-distance trucking firms (NAICS 484230), freight forwarders (NAICS 488510), and deep sea freight transport companies (NAICS 483111). The SBA classifies trucking firms as small if their annual receipts are not more than $23.5 million; freight forwarding firms are small if their annual receipts are not more than $6.5 million, and deep sea freight transport firms are small if they have not more than 500 workers. According to the 2002 Economic Census, there were 3,429 trucking firms, 3,827 freight forwarders, and 195 deep sea freight transport companies. Over 99 percent of trucking firms, 96 percent freight forwarders, and 97 percent of deep sea freight transport firms are considered to be small. Thus, predominant numbers of meat processors, wholesale traders, and transport firms that could be affected by the rule are considered to be small by SBA standards. Average sales of even the smallest packers and wholesalers are large compared to the amount of pork expected to be imported from the four countries.

U.S. swine and pork producers (NAICS 112210) might be potentially affected by the proposed rule. According to the 2002 Census of Agriculture, there were 82,028 hog and pig operations with sales of 184,997,686 hogs and pigs valued at $12.4 billion. These facilities are considered to be small if their annual receipts are not more than $750,000. Over 83 percent of these operations (or 68,083) are considered to be small and had sales of fewer than 2,000 hogs and pigs. Small operations had a total inventory of 16,297,158 (8.81 percent) with an average inventory of 237 hogs, while large operations (or 13,945) had sales of 168,700,528 (91.19 percent) with an average inventory of 12,714 hogs. Based on inventory share, small operations had annual sales of $1.3 billion and an average income of about $19,400, while large operations had sales of $11 billion with an average income of about $834,000. As shown in table 3, the impact of potential pork imports on U.S. producers as a result of this rule would be small. The decrease in producer welfare per small entity is less than $133 or about 0.6 percent of average annual sales of small entities when we assume that 10 percent of combined global pork exports by the four countries would be sent to the United States.

Table 3.—The Economic Impact of Potential Pork Imports From the Czech Republic, Latvia, Lithuania, and Poland on U.S. Small Entities, Assuming 10 Percent of Combined Global Pork Exports by the Four Countries Are Sent to the United States, 2005 Dollars
Total decline in producer welfare ¹ | $9,715,120
Decrease in welfare incurred by small entities ² | 855,902
Average decrease per head of inventory, small entities ³ | 0.05
Average decrease per small entity ⁴ | 124
Average decrease as percentage of average sales, small entities ⁵ | 0.6%
¹ From table 2. The change in producer welfare is negative indicating a decline.
² Change in producer welfare multiplied by 8.81 percent from the above text. We assume that the change in producer welfare would be proportional to inventory share.
³ Decrease in producer welfare for small entities divided by 16,297,158 (see text above).
⁴ Average decrease per head of inventory multiplied by 237 (see text above).
⁵ Average decrease per small entity divided by $19,400 (see text above).

Because quantities of swine, swine semen, ruminants, and ruminant products imported from these countries, if such imports were to occur, are likely to be very small, effects of the rule with respect to these commodities are not included in the analysis.

The amounts of pork shipped to the United States under the three scenarios discussed above would be 2,433 MT, 5,192 MT, and 13,013 MT. Even when the largest import quantity is assumed, the welfare effect for U.S. small-entity producers would be equivalent to less than 1 percent of their average revenue.

Predominant numbers of producers, meat processors, and wholesale traders are considered to be small entities. Other small entities that could theoretically be affected by the proposed rule include refrigerated long-distance trucking firms, freight forwarders, and deep sea freight transport companies. In all cases, any effects of the proposed rule for these types of businesses are expected to be very minor.

Under these circumstances, the Administrator of the Animal and Plant Health Inspection Service has determined that this action would not have a significant economic impact on a substantial number of small entities.

Executive Order 12988

This proposed rule has been reviewed under Executive Order 12988, Civil Justice Reform. If this proposed rule is adopted: (1) All State and local laws and regulations that are inconsistent with this rule will be preempted; (2) no retroactive effect will be given to this rule; and (3) administrative proceedings will not be required before parties may file suit in court challenging this rule.

National Environmental Policy Act

To provide the public with documentation of APHIS' review and analysis of any potential environmental impacts associated with the proposed addition of the Czech Republic, Latvia, Lithuania, and Poland to the list of EU countries considered to be low risk for CSF and to the list of regions recognized as free of SVD, but that are subject to certain import restrictions, and the addition of Latvia and Lithuania to the list of regions recognized as free of FMD and rinderpest, but that are subject to certain import restrictions, we have prepared environmental assessments for each country.

The environmental assessments were prepared in July or August 2006 and in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessments may be viewed on the Regulations.gov Web site or in our reading room. We invite the public to comment on those environmental assessments. Comments on the environmental assessments may be submitted using the same process as comments on the proposed rule. (Instructions for accessing Regulations.gov and for submitting comments, and information on the location and hours of the reading room are provided under the heading ADDRESSES at the beginning of this proposed rule. In addition, copies may be obtained by calling or writing to the individual listed under FOR FURTHER INFORMATION CONTACT.

Paperwork Reduction Act

This proposed rule contains no information collection or recordkeeping requirements under the Paperwork Reduction Act of 1995 (44 U.S.C. 3501 et seq.).

List of Subjects

9 CFR Part 92

Animal diseases, Imports, Livestock, Poultry and poultry products, Region, Reporting and recordkeeping requirements.

9 CFR Part 93

Animal diseases, Imports, Livestock, Poultry and poultry products, Quarantine, Reporting and recordkeeping requirements.

9 CFR Part 94

Animal diseases, Imports, Livestock, Meat and meat products, Milk, Poultry and poultry products, Reporting and recordkeeping requirements.

9 CFR Part 98

Animal diseases, Imports.

Accordingly, we propose to amend 9 CFR parts 92, 93, 94, and 98 as follows:

PART 92—IMPORTATION OF ANIMALS AND ANIMAL PRODUCTS: PROCEDURES FOR REQUESTING RECOGNITION OF REGIONS

1. The authority citation for part 92 would continue to read as follows:

Authority: 7 U.S.C. 1622 and 8301-8317; 21 U.S.C. 136 and 136a; 31 U.S.C. 9701; 7 CFR 2.22, 2.80, and 371.4.

2. In § 92.1, the definition of European Union would be revised to read as follows:

§ 92.1 Definitions.

* * * * *

European Union. The organization of Member States consisting of Austria, Belgium, Cyprus, the Czech Republic, Denmark, Estonia, Finland, France, Germany, Greece, Hungary, Italy, Latvia, Lithuania, Luxembourg, Malta, the Netherlands, Poland, Portugal, Slovakia, Slovenia, Republic of Ireland, Spain, Sweden, and the United Kingdom (England, Scotland, Wales, the Isle of Man, and Northern Ireland).

* * * * *

PART 93—IMPORTATION OF CERTAIN ANIMALS, BIRDS, FISH, AND POULTRY, AND CERTAIN ANIMAL, BIRD, AND POULTRY PRODUCTS; REQUIREMENTS FOR MEANS OF CONVEYANCE AND SHIPPING CONTAINERS

3. The authority citation for part 93 would continue to read as follows:

Authority: 7 U.S.C. 1622 and 8301-8317; 21 U.S.C. 136 and 136a; 31 U.S.C. 9701; 7 CFR 2.22, 2.80, and 371.4.

4. In § 93.500, the definition of European Union-15 (EU-15) would be removed and a definition of APHIS-defined EU CSF region would be added, in alphabetical order, to read as follows:

§ 93.500 Definitions.

* * * * *

APHIS-defined EU CSF region. The European Union Member States of Austria, Belgium, the Czech Republic, Denmark, Finland, France, Germany, Greece, Italy, Latvia, Lithuania, Luxembourg, the Netherlands, Poland, Portugal, Republic of Ireland, Spain, Sweden, and the United Kingdom (England, Scotland, Wales, the Isle of Man, and Northern Ireland).

* * * * *

§ 93.505 [Amended]

5. In § 93.505, paragraph (a), the words “region consisting of the EU-15 for the purposes of classical swine fever” would be removed and the words “APHIS-defined EU CSF region” would be added in their place, and the note at the end of the paragraph would be removed.

PART 94—RINDERPEST, FOOT-AND-MOUTH DISEASE, FOWL PEST (FOWL PLAGUE), EXOTIC NEWCASTLE DISEASE, AFRICAN SWINE FEVER, CLASSICAL SWINE FEVER, AND BOVINE SPONGIFORM ENCEPHALOPATHY: PROHIBITED AND RESTRICTED IMPORTATIONS

6. The authority citation for part 94 would continue to read as follows:

Authority: 7 U.S.C. 450, 7701-7772, 7781-7786, and 8301-8317; 21 U.S.C. 136 and 136a; 31 U.S.C. 9701; 7 CFR 2.22, 2.80, and 371.4.

7. In § 94.0, the definition of European Union-15 (EU-15) would be removed and a definition of APHIS-defined EU CSF region would be added, in alphabetical order, to read as follows:

§ 94.0 Definitions.

* * * * *

APHIS-defined EU CSF region. The European Union Member States of Austria, Belgium, the Czech Republic, Denmark, Finland, France, Germany, Greece, Italy, Latvia, Lithuania, Luxembourg, the Netherlands, Poland, Portugal, Republic of Ireland, Spain, Sweden, and the United Kingdom (England, Scotland, Wales, the Isle of Man, and Northern Ireland).

* * * * *

§ 94.1 [Amended]

8. In § 94.1, paragraph (a)(2) would be amended by adding the words “Latvia, Lithuania,” immediately after the word “Japan,”.

§ 94.1a [Removed]

9. Section 94.1a would be removed.

§ 94.9 [Amended]

10. In § 94.9, paragraphs (b) and (c), the words “EU-15” would be removed and the words “APHIS-defined EU CSF region” added in their place.

§ 94.10 [Amended]

11. In § 94.10, paragraphs (b) and (c), the words “EU-15” would be removed and the words “APHIS-defined EU CSF region” added in their place.

§ 94.11 [Amended]

12. In § 94.11, paragraph (a) would be amended by adding the words “Latvia, Lithuania,” immediately after the word “Japan,”.

13. In § 94.12, paragraph (a) would be revised to read as follows:

§ 94.12 Pork and pork products from regions where swine vesicular disease exists.

(a) Swine vesicular disease is considered to exist in all regions of the world except Australia, Austria, the Bahamas, Belgium, Bulgaria, Canada, Central American countries, Chile, the Czech Republic, Denmark, Dominican Republic, Fiji, Finland, France, Germany, Greece, Greenland, Haiti, Hungary, Iceland, Latvia, Lithuania, Luxembourg, Mexico, the Netherlands, New Zealand, Norway, Panama, Poland, Portugal, Republic of Ireland, Romania, Spain, Sweden, Switzerland, Trust Territories of the Pacific, the United Kingdom (England, Scotland, Wales, the Isle of Man, and Northern Ireland), Yugoslavia, and the Regions in Italy of Friuli, Liguria, Marche, and Valle d'Aosta.

* * * * *

14. In § 94.13, in the introductory text of the section, the first sentence would be revised to read as follows:

§ 94.13 Restrictions on importation of pork or pork products from specified regions.

Austria, the Bahamas, Belgium, Bulgaria, Chile, the Czech Republic, Denmark, France, Germany, Hungary, Latvia, Lithuania, Luxembourg, the Netherlands, Poland, Portugal, Republic of Ireland, Spain, Switzerland, the United Kingdom (England, Scotland, Wales, the Isle of Man, and Northern Ireland), Yugoslavia, and the Regions in Italy of Friuli, Liguria, Marche, and Valle d'Aosta are declared free of swine vesicular disease in § 94.12(a) of this part. * * *

* * * * *

§ 94.24 [Amended]

15. Section 94.24 would be amended as follows:

a. In the section heading, by removing the words “EU-15” and adding the words “APHIS-defined EU CSF region” in their place.

b. In paragraph (a), introductory text, and paragraph (a)(1)(i), by removing the words “EU-15” and adding the words “APHIS-defined EU CSF region” in their place.

c. In paragraphs (a)(1)(ii) and (a)(1)(iii), by removing the words “the EU-15” and adding the words “the APHIS-defined EU CSF region” in their place and by removing the words “an EU-15” and adding the word “the” in their place.

d. In paragraph (a)(5), by removing the words “EU-15” and adding the words “APHIS-defined EU CSF region” in their place.

e. In paragraph (b), introductory text, and paragraph (b)(2)(i), by removing the words “EU-15” and adding the words “APHIS-defined EU CSF region” in their place.

f. In paragraph (b)(2)(ii) and (b)(2)(iii), by removing the words “the EU-15” and adding the words “the APHIS-defined EU CSF region” in their place and by removing the words “an EU-15” and adding the word “the” in their place.

g. In paragraph (b)(6), by removing the words “EU-15” and adding the words “APHIS-defined EU CSF region” in their place.

PART 98—IMPORTATION OF CERTAIN ANIMAL EMBRYOS AND ANIMAL SEMEN

16. The authority citation for part 98 would continue to read as follows:

Authority: 7 U.S.C. 1622 and 8301-8317; 21 U.S.C. 136 and 136a; 31 U.S.C. 9701; 7 CFR 2.22, 2.80, and 371.4.

17. In § 98.30, the definition of European Union-15 (EU-15) would be removed and a definition of APHIS-defined EU CSF region would be added, in alphabetical order, to read as follows:

§ 98.30 Definitions.

* * * * *

APHIS-defined EU CSF region. The European Union Member States of Austria, Belgium, the Czech Republic, Denmark, Finland, France, Germany, Greece, Italy, Latvia, Lithuania, Luxembourg, the Netherlands, Poland, Portugal, Republic of Ireland, Spain, Sweden, and the United Kingdom (England, Scotland, Wales, the Isle of Man, and Northern Ireland).

* * * * *

§ 98.38 [Amended]

18. Section 98.38 would be amended as follows:

a. In the section heading, by removing the words “EU-15” and adding the words “APHIS-defined EU CSF region” in their place.

b. In the introductory text of the section, paragraph (a), and paragraph (b)(1), by removing the words “EU-15” and adding the words “APHIS-defined EU CSF region” in their place.

c. In paragraph (b)(2), by removing the words “the EU-15” and adding the words “the APHIS-defined EU CSF region” in their place and by removing the words “an EU-15” and adding the word “the” in their place.

d. In paragraph (b)(3), by removing the words “EU-15 established” and adding the words “APHIS-defined EU CSF region established “ in their place and by removing the words “EU-15” immediately before the word “Member”.

e. In paragraph (f), by removing the words “Office International des Epizooties” and the parentheses surrounding the words “World Organization for Animal Health”.

f. In paragraph (i), by removing the words “EU-15” and adding the words “APHIS-defined EU CSF region” in their place.

Done in Washington, DC, this 6th day of February 2007.
Kevin Shea,
Acting Administrator, Animal and Plant Health Inspection Service.

[FR Doc. E7-2327 Filed 2-9-07; 8:45 am]

BILLING CODE 3410-34-P